DEPARTMENT OF TRANSPORTATION

Federal Aviation Administration

Advisory Circular 33.19-1, Guidance Material for 14 CFR § 33.19, Durability, for Reciprocating Engine Redesigned Parts

AGENCY: Federal Aviation Administration (FAA), DOT.

ACTION: Notice of issuance of advisory circular.

SUMMARY: This advisory circular (AC) provides guidance and acceptable methods, but not the only methods, that may be used to demonstrate that redesigned parts for reciprocating engines comply with the requirements of § 33.19 of Title 14 of the Code of Federal Regulations (14 CFR). This AC addresses major type design changes, parts manufacturing approvals (PMA), and supplemental type certificates (STC) for drive system or structural parts in reciprocating engines.

DATES: The Engine and Propeller Directorate, Aircraft Certification Service, issued Advisory Circular 33.19-1 on September 27, 2004.

FOR FURTHER INFORMATION CONTACT: The Federal Aviation Administration, Attn: Mark Rumizen, Engine and Propeller Standards Staff, ANE-110, 12 New England Executive Park, Burlington, MA 01803-5299; telephone: (781) 238-7113; fax: (781) 238-7199; e-mail: Mark.Rumizen@faa.gov.

We have filed in the docket all substantive comments received, and a report summarizing them. If you wish to review the docket in person, you may go to the above address between 9 a.m. and 5 p.m., Monday through Friday, except Federal holidays. If you wish to contact the above individual directly, you can use the above telephone number or e-mail address provided.

How To Obtain Copies: A paper copy of AC 33.19-1 may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at “http://www.faa.gov/”, select “Regulations and Policies” and the link titled “Advisory Circulars”.

(Authority: 49 U.S.C. 106(g), 40113, 44701-44702, 44704.)

Issued in Burlington, Massachusetts, on September 27, 2004.
Francis A. Favara,
Acting Manager, Engine and Propeller Directorate, Aircraft Certification Service.

[FR Doc. 04-23073 Filed 10-13-04; 8:45 am]

BILLING CODE 4910-13-M